DEPARTMENT OF COMMERCE

National Oceanic and Atmospheric Administration

[RTID 0648-XC169]

Gulf of Mexico Fishery Management Council; Public Meeting

AGENCY: National Marine Fisheries Service (NMFS), National Oceanic and Atmospheric Administration (NOAA), Commerce.

ACTION: Notice of a meeting that is open to the public.

SUMMARY: The Gulf of Mexico Fishery Management Council will hold a meeting of its Individual Fishing Quota (IFQ) Focus Group. There will be a virtual option for the public to listen to the plenary sessions and provide public comments.

DATES: The meeting will convene on Tuesday, August 2, 2022, from 9 a.m. to 5 p.m., EDT and Wednesday, August 3, 2022, from 9 a.m. to 4 p.m., EDT.

ADDRESSES: The meeting will take place at the Gulf Council office. Please visit the Gulf Council website at www.gulfcouncil.org for meeting materials.

Council address: Gulf of Mexico Fishery Management Council, 4107 W Spruce Street, Suite 200, Tampa, FL 33607; telephone: (813) 348-1630.

FOR FURTHER INFORMATION CONTACT: Dr. Ava Lasseter, Anthropologist, Gulf of Mexico Fishery Management Council; ava.lasseter@gulfcouncil.org, telephone: (813) 348-1630.

SUPPLEMENTARY INFORMATION: The meeting will begin with introductions and discussion of the meeting format, followed by a review of the agenda and meeting objectives. The focus group will review and discuss the IFQ programs' current goals and objectives, and recommend their replacement and/or retention. The focus group will work to define the changes needed for an improved Red Snapper and Grouper-Tilefish IFQ Program, and will address minimizing discards, fairness and equity, and new entrants' issues. The focus group will discuss the next steps for the group. Other Business. Public comment will be available as time allows at the end of each day in-person and virtually.

—Meeting Adjourns

The Agenda is subject to change, and the latest version along with other meeting materials will be posted on www.gulfcouncil.org. You may register for the webinar to listen-in only by visiting www.gulfcouncil.org and click on the Council meeting on the calendar.

Although other non-emergency issues not on the agenda may come before this group for discussion, in accordance with the Magnuson-Stevens Fishery Conservation and Management Act, those issues may not be the subject of formal action during this meeting. Actions will be restricted to those issues specifically identified in the agenda and any issues arising after publication of this notice that require emergency action under section 305(c) of the Magnuson-Stevens Fishery Conservation and Management Act, provided the public has been notified of the Council's intent to take-action to address the emergency.

Authority: 16 U.S.C. 1801 et seq.

Dated: July 7, 2022.
Tracey L. Thompson,
Acting Deputy Director, Office of Sustainable Fisheries, National Marine Fisheries Service.

[FR Doc. 2022-14784 Filed 7-11-22; 8:45 am]

BILLING CODE 3510-22-P